DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Regulations Governing the Administration of the Longshore and Harbor Workers' Compensation Act (ESA-100, LS-200, LS-201, LS-203, LS-204, LS-262, LS-267, LS-271, LS-274, LS-513). A copy of the proposed information collection request can be obtained by contacting the office listed below in the addresses section of this Notice.

DATES: Written comments must be submitted to the office listed in the addresses section below on or before April 24, 2006.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION: I. Background: The Office of Workers' Compensation Programs (OWCP) administers the Longshore and Harbor Workers' Compensation Act (LHWCA), as amended (20 CFR 702.162, 702.174, 702.175, 20 CFR 702.242, 20 CFR 702.285, 702.321, 702.201, and 702.111) as it pertains to the provision of benefits to workers injured in maritime employment on the navigable waters of the United States or in an adjoining area customarily used by an employer in loading, unloading, repairing, or building a vessel, as well as coverage extended to certain other employees. The Longshore Act administration requirements include: Payment of compensation liens incurred by Trust Funds; certification of exemption and reinstatement of employers who are engaged in the building, repairing, or dismantling of exclusively small vessels; settlement of cases under the Act; reporting of earnings by injured claimants receiving benefits under the Act; filing applications for relief under second injury provisions; and, maintenance of injury reports under the Act. This information collection is currently approved for use through December 31, 2006.

II. Review Focus: The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility and clarity of the information to be collected; and

* Minimize the burden of the collection of information on those who are to respond, including through the use of appropriate automated, electronic, mechanical, or other technological collection techniques or other forms of information technology, e.g., permitting electronic submissions of responses.

III. Current Actions: The Department of Labor (DOL) seeks extension of approval to collect this information in order to carry out its responsibility to insure that Longshore beneficiaries are receiving appropriate benefits.

Failure to request this information, there would be no way to insure beneficiaries are receiving the correct amount of benefits.

Type of Review: Extension.

Agency: Employment Standards Administration.

Title: Regulations Governing the Administration of the Longshore and Harbor Workers' Compensation Act.

OMB Number: 1215-0160.

Agency Number: (ESA-100, LS-200, LS-201, LS-203, LS-204, LS-262, LS-267, LS-271, LS-274, LS-513).

Affected Public: Individuals or households, Businesses or other for-profit.

Total Respondents: 185,716.

Total Responses: 185,716.

Frequency: On Occasion and Annually.

Type of Response: Recordkeeping and Reporting.

Estimated Total Burden Hours: 71,376.

Total Burden Cost (capital/startup): $0.

Total Burden Cost (operating/maintenance): $66,571.

Information collection | Annual responses | Average response time (hours) | Annual burden hours
LS-200, Report of Earnings | 18,000 | 0.17 | 2,440
LS-200, Report of Earnings with no earnings information to report | 3,600 | 0 | 0
Liens (702.162) | 10 | 0.5 | 5
Certifications (702.174) | 5 | 0.75 | 4
Reinstatements (702.175) | 2 | 0.5 | 1
Settlement Applications (702.242) | 5,040 | 2 | 10,080
Section 8(f) Payments (702.321) | 485 | 5 | 2,425
ESA-100 (LS) Annual Report | 42,000 | 0.02 | 840
LS-271, Application for Self-insurance | 20 | 2 | 40
LS-274, Report of Injury Experience of Self-Insured Employer | 619 | 1 | 619
LS-201, Notice of Employee's Injury of Death | 5,040 | 0.25 | 1,260
LS-513, Report of Payments | 619 | 0.5 | 309
LS-267, Claimant's Statement | 1,456 | 0.033 | 48
LS-203, Employee's Claim for Compensation | 11,340 | 0.25 | 2,835
LS-204, Attending Physician's Supplementary Report | 100,800 | 0.5 | 50,400
LS-262, Claim for Death Benefits | 280 | 0.25 | 70
Total | 185,716 |  | 71,376

Total Burden Cost (capital/startup): $0.

Total Burden Cost (operating maintenance): $66,571.

Comments submitted in response to this notice will be summarized and/or included in the request for Office of Management and Budget approval of the information collection request; they will also become a matter of public record.

Dated: February 15, 2006.
Sue Blumenthal,
Acting Chief, Branch of Management Review and Internal Control, Division of Financial Management, Office of Management, Administration and Planning Employment Standards Administration.

[FR Doc. E6-2455 Filed 2-21-06; 8:45 am]

BILLING CODE 4510-CF-P